DEPARTMENT OF COMMERCE

National Oceanic and Atmospheric Administration

[RTID 0648-XD413]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day hybrid meeting to consider actions affecting the Gulf of Mexico fisheries in the exclusive economic zone (EEZ).

DATES: The meeting will convene Monday, October 23 through Thursday, October 26, 2023. Schedule as follows: Monday, Tuesday and Wednesday at 8 a.m.-5 p.m. and Thursday at 8 a.m.-4:15 p.m., CDT.

ADDRESSES: The meeting will take place at Embassy Suites by Hilton, located at 16006 Front Beach Road, Panama City Beach, FL 32413.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, October 23, 2023; 8 a.m.-5 p.m., CDT

The meeting will begin in Full Council with review and adoption of Proposed Council Committee Assignments for October 2023 through August 2024 and current Council Committee Assignments.

Committee Sessions will follow beginning with the Data Collection Committee reviewing Final Action item: Comprehensive Amendment Addressing Electronic Reporting for Commercial Vessels, Development of Gulf For-Hire Data Collection Program, Scientific and Statistical Committee (SSC) Discussions on Recreational Marine Recreational Information Program-Fishing Effort Survey (MRIP-FES) Pilot Study and Next Steps and on MRIP-FES Inventory for the Gulf of Mexico. The Committee will review the summary report from the Technical Coordinating Committee Deliberations at the Gulf States Marie Fisheries Commission (GSMFC) meeting.

There will be an Individual Fishing Quota (IFQ) Information Presentation from NOAA during lunch.

Following lunch, the Shrimp Committee will convene and review the Results of Side-by-Side Testing of Cellular Vessel Monitoring Systems (cVMS) and Cellular Electronic Logbooks (cELBs) on Gulf Shrimp Vessels and any remaining items from the meeting summary for the October 2023 Shrimp Advisory Panel meeting.

The Reef Fish Committee will convene and discuss the SSC Reviews for 2023 Gulf Vermilion Snapper Interim Analysis and Gulf Lane Snapper Catch Analysis.

The Full Council will reconvene in a CLOSED SESSION for selection of Ad Hoc Charter For-hire Data Collection Advisory Panel Members.

Tuesday, October 24, 2023; 8 a.m.-5 p.m., CDT

The Reef Fish Committee will reconvene to review IFQ Program Goals and Objectives, Final Action item: Modifications to Recreational and Commercial Greater Amberjack Management Measures, Draft: Snapper Grouper Amendment 44/Reef Fish Amendment 55: Catch Level Adjustments and Allocations for Southeastern U.S. Yellowtail Snapper. The Committee will review SSC Discussions on Recent Gag Grouper Research and Implications for Management, 2023 Gulf Gag Grouper Health Check Status, Draft Options: Gag and Black Grouper Management Measures and Reef Fish and IFQ Program Landings, and State Program Landings for Red Snapper.

Wednesday, October 25, 2023; 8 a.m.-5 p.m., CDT

The Ecosystem Committee will review and discuss the Summary Report from the September 2023 Ecosystem Technical Committee meeting.

The Administrative/Budget Committee will discuss Draft Activities for Proposed Use of Administrative Award Carryover Funds and Information on Inflation Reduction Act Funding for the Regional Management Councils and Proposed Activities.

The Mackerel Committee will review the Coastal migratory Pelagics Landings and Draft Framework Amendment 14: Modifications to Gulf Spanish Mackerel Catch Limits.

At approximately 11:15 a.m., CDT, the Council will reconvene with a Call to Order, Announcements and Introductions, Adoption of Agenda and Approval of Minutes. The Council will receive a presentation Update on the Bureau of Ocean Energy Management (BOEM) on Wind Energy Development in the Gulf of Mexico and an update on NOAA Fisheries Efforts to Incorporate Feedback from Underserved Communities and other Stakeholders into a Southeast Equity and Environmental Justice Implementation Plan.

The Council will hold public comment testimony from 2 p.m. to 5 p.m., CDT for Final Action Items: Comprehensive Amendment Addressing Electronic Reporting for Commercial Vessels and Modifications to Recreational and Commercial Greater Amberjack Management Measures; including, open testimony on other fishery issues or concerns. Public comment may begin earlier than 2 p.m. CDT but will not conclude before that time. Persons wishing to give public testimony in-person must register at the registration kiosk in the meeting room. Persons wishing to give public testimony virtually must sign up via the link on the Council website. Registration for virtual testimony is open at the start of the meeting, Monday, October 23rd at 8 a.m., CDT and closes one hour before public testimony begins on Wednesday, October 25th at 1 p.m. CDT. Public testimony may end before the published agenda time if all registered in-person and virtual participants have completed their testimony.

Thursday, October 26, 2023; 8 a.m.-4:15 p.m., CDT

The Council will receive Committee reports from Data Collection, Shrimp, Closed Session, Reef Fish, Ecosystem, Administrative/Budget, and Mackerel Management Committees. The Council will receive updates from the following supporting agencies: Florida Law Enforcement Efforts; South Atlantic Fishery Management Council; NOAA Office of Law Enforcement (OLE); Gulf States Marine Fisheries Commission; U.S. Coast Guard; U.S. Fish and Wildlife Service; and Department of State.

The Council will discuss any Other Business items.

—Meeting Adjourns

The meeting will be a hybrid meeting; both in-person and virtual participation available. You may register for the webinar to listen-in only by visiting www.gulfcouncil.org and click on the Council meeting on the calendar. https://attendee.gotowebinar.com/register/3383291116212545537.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: September 26, 2023.
Rey Israel Marquez,
Acting Deputy Director, Office of Sustainable Fisheries, National Marine Fisheries Service.

[FR Doc. 2023-21456 Filed 9-28-23; 8:45 am]

BILLING CODE 3510-22-P